DEPARTMENT OF DEFENSE

GENERAL SERVICES ADMINISTRATION

NATIONAL AERONAUTICS AND SPACE ADMINISTRATION

48 CFR Parts 1, 5, 14, 19, 22, 36, 52, and 53

[FAR Case 2001-032]

RIN: 9000-AJ50

Federal Acquisition Regulation; Elimination of the Standard Form 129, Solicitation Mailing List Application

AGENCIES: Department of Defense (DoD), General Services Administration (GSA), and National Aeronautics and Space Administration (NASA).

ACTION: Proposed rule.

SUMMARY: The Civilian Agency Acquisition Council and the Defense Acquisition Regulations Council (Councils) are proposing to amend the Federal Acquisition Regulation (FAR) to remove the requirement for contracting offices to establish and maintain manual solicitation mailing lists and the need to use the Standard Form (SF 129, Solicitation Mailing List Application).

DATES: Interested parties should submit comments in writing on or before January 6, 2003 to be considered in the formulation of a final rule.

ADDRESSES: Submit written comments to—General Services Administration, FAR Secretariat (MVA), 1800 F Street, NW, Room 4035, ATTN: Laurie Duarte, Washington, DC 20405. Submit electronic comments via the Internet to— farcase.2001-032@gsa.gov.

Please submit comments only and cite FAR case 2001-032 in all correspondence related to this case.

FOR FURTHER INFORMATION CONTACT: The FAR Secretariat, Room 4035, GS Building, Washington, DC, 20405, at (202) 501-4755 for information pertaining to status or publication schedules. For clarification of content, contact Mr. Ralph De Stefano, Procurement Analyst, at (202) 501-1758. Please cite FAR case 2001-032.

SUPPLEMENTARY INFORMATION:

A. Background

In order to broaden use and reliance on e-business applications, the Councils are working with the Office of Federal Procurement Policy to eliminate the need to maintain paper-based sources of contractor information. As part of this effort, the Councils are proposing to eliminate the SF 129, Solicitation Mailing List Application.

The SF 129 was created to enable contracting activities to obtain information from sources to develop a solicitation mailing list. At the time the form was developed, manual processes were the only means available to assure access to adequate sources of supplies and services. Today, by sharp contrast, there are multiple tools available to agencies that can provide the functionality of the SF 129, but in a more efficient and effective manner. With the Administration's encouragement, agencies are taking advantage of these tools.

For example, many agencies now require potential contractors to register in the Central Contractor Registration (CCR) system, a centrally located, searchable database, accessible via the Internet, as their tool of choice for developing, maintaining, and providing sources for future procurements. The CCR database enables prospective contractors to update their information in one place via a website (http://www.CCR2000.com.gov). As a single validated source of data on contractors doing business with the Government, contracting officers are now able to access, via the Internet, contractor data and industry information less expensively, and more efficiently identify sources for contracting opportunities. Additionally, information obtained manually on the SF 129 may now be obtained electronically through the Procurement Marketing and Access Network, “PRO-NET,” http://pro-net.sba.gov. PRO-NET is an electronic gateway of procurement information for and about small businesses operated by the Small Business Administration. It is a search engine for contracting officers, a marketing tool for small firms, and a link to procurement opportunities and important information. Furthermore, agencies are continually working to develop new electronic means of matching interested businesses with Government contracting offices on “FedBizOpps,” http://www.fedbizopps.gov, the designated single Governmentwide point of entry for public access to notices of procurement actions over $25,000. FedBizOpps.gov, through its interested vendors list, has the capability to generate a list of vendors who are interested in a specific solicitation for purposes of teaming opportunities, subcontracting opportunities, and other business relationships. In light of these electronic initiatives, we propose to eliminate the manual collection of contractor data using the SF 129.

This is not a significant regulatory action and, therefore, was not subject to review under Section 6(b) of Executive Order 12866, Regulatory Planning and Review, dated September 30, 1993. This rule is not a major rule under 5 U.S.C. 804.

B. Regulatory Flexibility Act

The Councils do not expect this proposed rule to have a significant economic impact on a substantial number of small entities within the meaning of the Regulatory Flexibility Act, 5 U.S.C. 601, et seq., because the rule substitutes efficient electronic databases for solicitation mailing lists and the SF 129, Solicitation Mailing List Application. An Initial Regulatory Flexibility Analysis (IRFA) has been prepared and will be provided to the Chief Counsel for Advocacy for the Small Business Administration. The analysis is summarized as follows:

This proposed rule would eliminate the SF 129, Solicitation Mailing List Application, so that agencies may rely exclusively on more efficient means to access sources of supplies. For example, information obtained manually on the SF 129 can be obtained more efficiently through the Procurement Marketing and Access PRO-NET, which is sponsored by the Small Business Administration. PRO-NET is an electronic gateway of procurement information for and about small businesses. It is a search engine for contracting officers, a marketing tool for small firms, and a link to procurement opportunities and important information.

The proposed rule, when finalized, will apply to all large and small entities that seek contracts that are awarded by executive agencies. For fiscal year 2001, there were 176,258 contract actions awarded over the simplified acquisition threshold. The proposed rule imposes no reporting, recordkeeping, or other compliance requirements.

The FAR Secretariat has submitted a copy of the IRFA to the Chief Counsel for Advocacy of the Small Business Administration. A copy of the IRFA may be obtained from the FAR Secretariat. The Councils will consider comments from small entities concerning the affected FAR parts in accordance with 5 U.S.C. 610. Comments must be submitted separately and should cite 5 U.S.C 601, et seq. (FAR case 2001-032), in correspondence.

C. Paperwork Reduction Act

The Paperwork Reduction Act no longer applies because the proposed rule eliminates reporting and recordkeeping requirements currently approved under OMB Control Number 9000-0002. This rule will reduce the current OMB inventory by 464,000 hours.

List of Subjects in 48 CFR Parts 1, 5, 14, 19, 22, 36, 52, and 53

Government procurement.

Dated: November 1, 2002.
Al Matera,
Director, Acquisition Policy Division.

Therefore, DoD, GSA, and NASA propose amending 48 CFR parts 1, 5, 14, 19, 22, 36, 52, and 53 as set forth below:

1. The authority citation for 48 CFR parts 1, 5, 14, 19, 22, 36, 52, and 53 continues to read as follows:

Authority: 40 U.S.C. 486(c); 10 U.S.C. chapter 137; and 42 U.S.C. 2473(c).

PART 1—FEDERAL ACQUISITION REGULATIONS SYSTEM

1.106 [Amended]

2. Amend section 1.106 in the table following the introductory paragraph by removing from FAR segment 14.205 its corresponding OMB Control Number “9000-0002” and adding “9000-0037” in its place; and by removing the FAR segments “14.205-4(c)” and “SF 129” and their corresponding OMB Control Numbers “9000-0037” and “9000-0002”, respectively.

PART 5—PUBLICIZING CONTRACT ACTIONS

3. Amend section 5.205 by revising the fourth sentence of paragraph (a) to read as follows:

5.205 Special situations.

(a) * * * Contracting officers must consider potential sources which respond to advance notices for a subsequent solicitation. * * *

* * * * *

5.403 [Amended]

4. Amend section 5.403 by removing paragraph designation “(a)” and paragraph (b).

PART 14—SEALED BIDDING

14.103-1 [Amended]

5. Amend section 14.103-1 by removing paragraph (b) and redesignating paragraphs “(c)” and “(d)” as “(b)” and “(c)”, respectively.

6. Amend section 14.201-6 by revising paragraph (e) to read as follows:

14.201-6 Solicitation provisions.

* * * * *

(e) Insert in all invitations for bids the provision at 52.214-10, Contract Award—Sealed Bidding.

* * * * *

7. Amend section 14.203-1 by revising the first sentence to read as follows:

14.203-1 Transmittal to prospective bidders.

Invitations for bids or presolicitation notices shall be provided in accordance with 5.102. * * *

8. Revise section 14.205 to read as follows:

14.205 Presolicitation notices.

In lieu of initially forwarding complete bid sets, the contracting officer may send presolicitation notices to concerns. The notice shall—

(a) Specify the final date for receipt of requests for a complete bid set;

(b) Briefly describe the requirement and furnish other essential information to enable concerns to determine whether they have an interest in the invitation; and

(c) Normally not include drawings, plans, and specifications. The return date of the notice must be sufficiently in advance of the mailing date of the invitation for bids to permit an accurate estimate of the number of bid sets required. Bid sets shall be sent to concerns that request them in response to the notice.

14.205-1 through 14.205-5 [Removed]

9. Remove sections 14.205-1, 14.205-2, 14.205-3, 14.205-4, and 14.205-5.

14.211 [Amended]

10. Amend section 14.211 in the first sentence of paragraph (a) by removing “14.205-4(c)” and adding “14.205” in its place.

11. Amend section 14.503-1 by revising the introductory text of paragraph (a) to read as follows:

14.503-1 Step one.

(a) Requests for technical proposals shall be synopsized in accordance with Part 5. The request must include, as a minimum, the following:

* * * * *

PART 19—SMALL BUSINESS PROGRAMS

19.202-2 [Amended]

12. Amend section 19.202-2 by removing paragraph (a) and redesignating paragraphs “(b)” and “(c)” as “(a)” and “(b)”, respectively.

19.202-4 [Amended]

13. Amend section 19.202-4 by removing paragraph (c) and redesignating paragraph (d) as (c).

19.402 [Amended]

14. Amend section 19.402 in paragraph (c)(3) by removing the words “on solicitation mailing lists or”.

PART 22—APPLICATION OF LABOR LAWS TO GOVERNMENT ACQUISITIONS

15. Amend section 22.1009-2 by revising paragraph (b) to read as follows:

22.1009-2 Attempt to identify possible places of performance.

* * * * *

(b) Databases available via the Internet for lists of prospective offerors and contractors.

* * * * *

PART 36—CONSTRUCTION AND ARCHITECT-ENGINEER CONTRACTS

36.213-3 [Amended]

16. Amend section 36.213-3 in the parenthetical in paragraph (d) by removing “14.205 and”.

PART 52—SOLICITATION PROVISIONS AND CONTRACT CLAUSES

52.214-9 [Removed and Reserved]

17. Remove and reserve section 52.214-9.

52.214.10 [Amended]

18. Amend section 52.214-10 in the prescription by removing “14.201-6(e)(2)” and adding “14.201-6(c)” in its place.

PART 53—FORMS

53.214 [Amended]

19. Amend section 53.214 by removing and reserving paragraph (e).

53.301-129 [Removed]

20. Remove section 53.301-129.

[FR Doc. 02-28205 Filed 11-5-02; 8:45 am]

BILLING CODE 6820-EP-P